NATIONAL SCIENCE FOUNDATION

Proposal Review Panel for Computing & Communication Foundations; Notice of Meeting

In accordance with the Federal Advisory Committee Act (Pub. L. 92-463, as amended), the National Science Foundation announces the following meeting:

Name: Proposal Review Panel for Science and Technology Centers—Integrative Partnerships (#1192) Site Visit.

Date/Time:

December 7, 2014—6:30 p.m.-8:30 p.m.

December 8, 2014—8:00 a.m.-8:00 p.m.

December 9, 2014—8:30 a.m.-3:00 p.m.

Place: Purdue University, West Lafayette, IN.

Type of Meeting: Part Open.

Contact Person: John Cozzens, National Science Foundation, 4201 Wilson Boulevard, Room 1115, Arlington, VA 22230. Telephone: (703) 292-8910.

Purpose of Meeting: To assess the progress of the STC Award: 0939370, “Emerging Frontiers of Science of Information”, and to provide advise and recommendations concerning further NSF support for the Center.

Agenda: CSoI Site Visit:

Sunday, December 7, 2014.

6:30 p.m. to 8:30 p.m.: Closed.

Site Team and NSF Staff meets to discuss Site Visit materials, review process and charge.

Monday, December 8, 2014.

8:00 a.m. to 1:00 p.m.: Open.

Presentations by Awardee Institution, faculty staff and students to Site Team and NSF Staff; Discussions and question and answer sessions.

1:00 p.m.—8:00 p.m.: Closed.

Draft report on education and research activities.

Tuesday, December 9, 2014.

8:30 a.m.—noon: Open.

Response to presentations by Site Team and NSF Staff Awardee Institution faculty staff; Discussions and question and answer sessions.

Noon to 3:00 p.m.: Closed.

Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: November 12, 2014.
Suzanne Plimpton,
Acting, Committee Management Officer.

[FR Doc. 2014-27178 Filed 11-17-14; 8:45 am]

BILLING CODE 7555-01-P